DEPARTMENT OF THE TREASURY

Submission for OMB Review; Comment Request

December 9, 2008.

The Department of Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before January 14, 2009 to be assured of consideration.

Office of Financial Education

OMB Number: 1505-XXXX.

Type of Review: New Collection.

Title: Community Financial Access Pilot Quarterly Report.

Description: Information will be collected on a voluntary basis from financial institutions and financial education providers working with the Department of the Treasury on the Community Financial Access Pilot (Pilot). This information is necessary to assess the effectiveness of the Pilot strategies to expand access to financial services and financial education for low- and moderate-income individuals. The information will allow Treasury to assess the effectiveness of each Pilot site strategy and the Pilot as a whole in expanding financial access and financial education.

Respondents: Businesses and other for-profit institutions, and not-for-profit institutions.

Estimated Total Reporting Burden: 2,000 hours.

Clearance Officer: Louisa Quittman, Treasury Office of Financial Education, 1500 Pennsylvania Avenue, Washington, DC 20220, (202) 622-8103.

OMB Reviewer: Nick Fraser (202) 395-5887, Office of Management and Budget, Room 10235, New Executive Office Building, Washington, DC 20503.

Robert Dahl,
Treasury PRA Clearance Officer.

[FR Doc. E8-29548 Filed 12-12-08; 8:45 am]

BILLING CODE 4810-25-P